DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. chapter 35). To request a copy of these documents, call the SAMHSA Reports Clearance Officer on (301) 443-7978.

Participant Feedback Forms for Two CMHS Mental Health Education Training Initiatives—New—This project will collect feedback from mental health professionals who receive training from any of SAMHSA's Center for Mental Health Services-supported Minority Community Based Organizations or Behavioral Health Professional Association contractors. The forms to be used to collect the feedback are refined versions of feedback forms required for use by the Mental Health Care Provider Education in HIV/AIDS Program II and approved by OMB under control number 0930-0195.

The range of mental health issues covered is broad and, depending on the needs of the audiences, the training sites may use any of the following types of curricula: general, ethics, neuropsychiatric, neuropsychiatric designed for non-psychiatrists, and an adherence curriculum. Education sites also vary the complexity and intensity of the training sessions, resulting in sessions of variable length. Service providers attending sessions shorter than 6 hours will provide feedback by completing a single form at the end of the training session. Those attending sessions 6 hours or longer will be asked to complete forms both before and after the training session in order to assess both satisfaction and perceived knowledge gain. Education sites funded under these initiatives will vary considerably in their prior experience in conducting trainings, with some organizations having significant prior experience while others will be developing their training programs. The burden estimates below incorporate and reflect reasonable assumptions regarding the volume, type and length of training sessions conducted by the various organizations likely to be funded under these two initiatives.

The Minority HIV/AIDS Mental Health Services Initiative is expected to be comprised of 12 minority community-based organizations providing mental health HIV/AIDS education trainings to traditional and non-traditional mental health service providers. Estimates of the numbers of mental health professionals trained and types of training sessions conducted are based on the assumption that half (6) of the funded education sites will be existing education programs and the other half will be new education sites. The six new education sites are expected to train about 300 individuals annually using the general curriculum (and corresponding form—The Participant Feedback Form) with their training sessions being less than 6 hours long. These sites will conduct, on average about 15 training sessions per year with approximately 20 people attending each session.

The remaining six sites are expected to be education sites with existing education training programs and are expected to conduct a total of 25 training sessions each per year with about 20 individuals attending each training session. These six sites should therefore train a total 500 individuals each per year. The majority of these sessions will be less than 6 hours long (about 76% or 19 sessions of the 25 sessions). In contrast to the new education sites, however, these sites are likely to use all of the following curricula: general, ethics, neuropsychiatric, neuropsychiatric designed for non-psychiatrists, and the adherence curriculum. Of the 19 training sessions that are shorter than 6 hours, 10 are expected to use the general curriculum, 3 will use the adherence curriculum, and 2 sessions each for the ethics, neuropsychiatric, neuropsychiatric for non-psychiatrists. Four of the 6 sessions that are longer than 6 hours are expected to use the general curriculum and corresponding pre/post participant forms, and 2 will use the neuropsychiatric curriculum with the accompanying corresponding pre/post neuropsychiatric participant forms. Burden estimates are presented in Table 1 below.

The Behavioral Health Professional Health Association Training Initiative is a continuation effort. This initiative will consist of three Associations providing training to mental health professionals both within and outside of their disciplines. These Associations are required to train a minimum of 1,000 mental health professionals per year using the general, ethics, neuropsychiatric, neuropsychiatric for non-psychiatrists, and adherence curricula. They all have prior experience training mental health professionals and will conduct sessions that are of variable length (i.e., shorter and longer than 6 hours long). Each Association will conduct about 57 trainings per year, the majority of which (about 90% or about 51 training sessions) will be less than 6 hours long. Of the shorter trainings, each Association will conduct about 20 using the general curriculum, 6 using the ethics curriculum, 12 using the neuropsychiatric curriculum, 9 using the adherence curriculum and 4 using the neuropsychiatric curriculum for non-psychiatrists. The appropriate post-training feedback form will be administered to trainees after each session. Each Association will also conduct about 6 longer trainings per year; 4 using the neuropsychiatric curriculum and 2 using the general curriculum. The corresponding pre/post feedback form will be administered at each training session. Table 2 below uses these assumptions to calculate the burden estimate.

Table 1.—Minority Hiv/Aids Mental Health Services Initiative
Form | Responses/ respondent | Estimated number of respondents | Estimated hours/response | Total hours
Minority HIV/AIDS Mental Health Services Initiative—12 Sites
All Sessions—One form per session completed by Program staff/trainer
Session Report Form | 1 | 240 | 0.08 | 19
Sessions less than 6 hours
Participant Feedback Form | 1 | 3,000 | 0.167 | 501
Neuropsychiatric Participant Feedback Form | 1 | 240 | 0.167 | 40
Ethics Participant Feedback Form | 1 | 240 | 0.167 | 40
Adherence Participant Feedback Form | 1 | 360 | 0.167 | 60
Neuropsychiatric Participant Feedback Form Non-Physicians | 1 | 240 | 0.167 | 40
Sessions 6 hours or longer
Pre-Training Participant Inventory | 1 | 480 | 0.167 | 80
Post-Training Participant Inventory | 1 | *480 | 0.25 | 120
Neuropsychiatric Pre-Training Participant Inventory | 1 | 240 | 0.167 | 40
Neuropsychiatric Post-Training Participant Inventory | 1 | *240 | 0.25 | 60
Total |  | 5,040 |  | 1,000

Table 2.—Behavioral Health Professional Association Training Initiative
Form | Responses/ respondent | Estimated number of respondents | Estimated hours/response | Total hours
Behavioral Health Professional Association Training Initiative—3 Sites
All Sessions—One form per session completed by Program staff/trainer
Session Report Form | 1 | 171 | 0.08 | 14
Sessions less than 6 hours
Participant Feedback Form | 1 | 1,200 | 0.167 | 200
Neuropsychiatric Participant Feedback Form | 1 | 720 | 0.167 | 120
Ethics Participant Feedback Form | 1 | 360 | 0.167 | 60
Adherence Participant Feedback Form | 1 | 540 | 0.167 | 90
Neuropsychiatric Participant Feedback Form Non-Physicians | 1 | 240 | 0.167 | 40
Sessions 6 hours or longer
Pre-Training Participant Inventory | 1 | 120 | 0.167 | 20
Post-Training Participant Inventory | 1 | *120 | 0.25 | 30
Neuropsychiatric Pre-Training Participant Inventory | 1 | 240 | 0.167 | 40
Neuropsychiatric Post-Training Participant Inventory | 1 | *240 | 0.25 | 60
Total |  | 3,591 |  | 674

Tabel 3.—Combined Annual Burden Estimate
Form | Responses per respondent | Estimated number of respondents | Estimated hours/response | Total hours
Behavioral Health Professional Association Training Initiative—3 Sites
All Sessions—One form per session completed by Program staff/trainer
Session Report Form | 1 | 411 | 0.08 | 33
Sessions less than 6 hours
Participant Feedback Form | 1 | 4,200 | 0.167 | 701
Neuropsychiatric Participant Feedback Form | 1 | 960 | 0.167 | 160
Ethics Participant Feedback Form | 1 | 600 | 0.167 | 100
Adherence Participant Feedback Form | 1 | 900 | 0.167 | 150
Neuropsychiatric Participant Feedback Form Non-Physicians | 1 | 480 | 0.167 | 80
Sessions 6 hours or longer
Pre-Training Participant Inventory | 1 | 600 | 0.167 | 100
Post-Training Participant Inventory | 1 | *600 | 0.25 | 150
Neuropsychiatric Pre-Training Participant Inventory | 1 | 480 | 0.167 | 80
Neuropsychiatric Post-Training Participant Inventory | 1 | *480 | 0.25 | 120
Total |  | 8,631 |  | 1,674
* Since the same individuals complete the pre-and post-training forms, these numbers are not included in calculating the total number of respondents.

Written comments and recommendations concerning the proposed information collection should be sent within 30 days of this notice to: Lauren Wittenberg, Human Resources and Housing Branch, Office of Management and Budget, New Executive Office Building, Room 10235, Washington, DC 20503.

Dated: July 26, 2001.
Richard Kopanda,
Executive Officer, SAMHSA.

[FR Doc. 01-19121 Filed 7-31-01; 8:45 am]

BILLING CODE 4162-20-P